INTERNATIONAL TRADE COMMISSION

[Investigation Nos. 701-TA-459 and 731-TA-1155 (Second Review)]

Commodity Matchbooks From India

Determinations

On the basis of the record ¹ developed in the subject five-year reviews, the United States International Trade Commission (“Commission”) determines, pursuant to the Tariff Act of 1930 (“the Act”), that revocation of the antidumping and countervailing duty orders on commodity matchbooks from India would be likely to lead to continuation or recurrence of material injury to an industry in the United States within a reasonably foreseeable time.

¹ The record is defined in § 207.2(f) of the Commission's Rules of Practice and Procedure (19 CFR 207.2(f)).

Background

The Commission instituted these reviews on March 2, 2020 (85 FR 12334) and determined on June 5, 2020 that it would conduct expedited reviews (85 FR 61031, September 29, 2020).

The Commission made these determinations pursuant to section 751(c) of the Act (19 U.S.C. 1675(c)). It completed and filed its determinations in these reviews on October 28, 2020. The views of the Commission are contained in USITC Publication 5131 (October 2020), entitled Commodity Matchbooks from India: Investigation Nos. 701-TA-459 and 731-TA-1155 (Second Review).

By order of the Commission.
Issued: October 28, 2020.
Lisa Barton,
Secretary to the Commission.

[FR Doc. 2020-24248 Filed 11-2-20; 8:45 am]

BILLING CODE 7020-02-P